DEPARTMENT OF STATE

[Public Notice No. 3276]

Bureau of Oceans, International Environmental and Scientific Affairs; Public Meeting to Discuss Progress on International Harmonization of Chemical Hazard Classification and Labeling

SUMMARY: The United States Government, through an interagency working group, is preparing for a series of international meetings to further develop a harmonized system of chemical hazard classification and labeling, an effort referred to as the “globally harmonized system” or GHS. The Department of State is announcing a public meeting to review the progress since the last public meeting on October 6, 1999, and to outline the issues likely to arise in upcoming international meetings. The public meeting will take place on Thursday, April 27, 2000, from 10:00 am until noon in Room 311 of the U.S. Environmental Protection Agency, Crystal Mall 2, 1921 Jefferson Davis Highway, Arlington, Virginia. To facilitate entry, attendees should bring picture identification with them. No advance registration is necessary. For further information, please contact Marie Ricciardone, U.S. Department of State, Office of Environmental Policy (OES/ENV), Room 4325, 2201 C Street NW, Washington, DC 20520; telephone (202) 647-9799; fax (202) 647-5947; e-mail RicciardoneMD@state.gov.

SUPPLEMENTARY INFORMATION: The U.S. Department of State is issuing this notice to help ensure that interested organizations and individuals are aware of and knowledgeable about the effort to internationally harmonize chemical hazard classification and labeling, and have an opportunity to offer comments. Several agencies participate in the U.S. government interagency group, including: Department of State, Environmental Protection Agency, Department of Transportation, Occupational Safety and Health Administration, Consumer Product Safety Commission, Food and Drug Administration, Department of Commerce, Department of Agriculture, Office of the U.S. Trade Representative, and National Institute of Environmental Health Sciences. For more complete information on the harmonization process, please refer to State Department Public Notice 2526, pages 15951-15957 of the Federal Register of April 3, 1997.

This meeting will provide an update on GHS activities since the previous public meeting on October 6, 1999 (see Department of State Public Notice 3121 on page 49834 of the Federal Register of September 14, 1999):

• Fourth Meeting of the Inter-Organization Program for the Sound Management of Chemicals (IOMC)/International Labor Organization (ILO) Working Group on Hazard Communication, November 1-4, 1999, Washington, DC;

• Fifteenth Consultation of the IOMC Coordinating Group for the Harmonization of Chemical Classification Systems, November 5, 1999, Washington, DC;

• Fifth Meeting of the Organization for Economic Cooperation and Development Expert Group on Classification Criteria for Chemical Mixtures, November 8-9, 1999, Washington, DC;

• Seventeenth Session of the UN Subcommittee of Experts on the Transport of Dangerous Goods, December 6-16, 1999, Geneva, Switzerland;

• Fifth Meeting of the Expert Group on Aquatic Environmental Hazards, February 14-15, 2000, Paris, France;

• Third Meeting of the OECD Ad Hoc Expert Group on Target Organ/Systemic Toxicity of the Task Force on Harmonization of Classification and Labeling, February 16-17, 2000, Paris, France;

• Ninth Meeting of the OECD Task Force on Harmonization of Classification and Labeling, February 17-18, 2000, Paris, France.

Members of the interagency working group will also provide an overview of the U.S. preparations for upcoming international meetings:

• The Fifth Meeting of the IOMC/ILO Working Group of Hazard Communication, May 22-25, 2000, Geneva, Switzerland will consider hazard communication label elements for the public and specialized audiences, and material safety data sheets for workers;

• The Sixteenth Consultation of the IOMC Coordinating Group for the Harmonization of Chemical Classification Systems, May 26, 2000, Geneva, Switzerland will consider GHS implementation issues;

• The Sixth Meeting of the OECD Expert Group on Classification Criteria for Chemical Mixtures, May 29-31, 2000, Paris, France will develop approaches and options for a harmonized system of classifying mixtures according to their health and environmental hazards;

• The Eighteenth Session of the UN Subcommittee on Experts on the Transport of Dangerous Goods, July 3-13, 2000, Geneva, Switzerland will consider classification criteria for flammable aerosols.

Interested organizations and individuals are invited to present their views orally and/or in writing at the public meeting. Those organizations/individuals that cannot attend the April 27, 2000 meeting, but wish to submit a written comment or remain informed, should provide Eunice Mourning of the Office of Environmental Policy, U.S. Department of State (telephone 202-647-9266; fax 202-647-5947) with their statement and/or name, organization, address, telephone and fax numbers, and e-mail address. All written comments will be placed in the OSHA public docket (H-022H), which is open Monday through Friday, from 10 am until 4 pm, at the Department of Labor, Room 2625, 200 Constitution Avenue NW, Washington, DC; telephone 202-219-7894; fax: 202-219-5046. Interested organizations /individuals that wish to receive future notifications of GHS-related developments by email should contact Mary Frances Lowe of the U.S. Environmental Protection Agency at “lowe.maryfrances@epa.gov”.

Dated: April 4, 2000.
Daniel T. Fantozzi,
Director, Office of Environmental Policy, Department of State.

[FR Doc. 00-8782 Filed 4-7-00; 8:45 am]

BILLING CODE 4710-06-U